DEPARTMENT OF ENERGY

Federal Energy Regulatory Commission

[Docket No. EC02-71-000, et al.]

American Transmission Systems, Incorporated, et al.; Electric Rate and Corporate Regulation Filings

May 24, 2002.

The following filings have been made with the Commission. The filings are listed in ascending order within each docket classification.

1. American Transmission Systems, Incorporated, PJM Interconnection, L.L.C.

[Docket Nos. EC02-71-000 and ER02-1865-000]

Take notice that on May 21, 2002 pursuant to Section 203 of the FPA and part 33 of the Commission's regulations, American Transmission Systems, Incorporated (ATSI) and PJM Interconnection, L.L.C. (PJM) filed with the Federal Energy Regulatory Commission (Commission), a joint application for approval of the transfer by ATSI of operational control over certain of its jurisdictional transmission facilities to PJM (Transfer). Pursuant to section 205 of the FPA and part 35 of the Commission's regulations, PJM filed three agreements related to the Transfer.

Copies of this filing were served upon all members of PJM and the state electric utility regulatory commissions within the PJM region.

Comment Date: June 11, 2002.

2. San Diego Gas and Electric Company, Complainant v. Sellers of Energy and Ancillary Services Into Markets Operated by the California Independent System Operator and the California Power Exchange, Respondents, California Independent System Operator Corporation

[Docket Nos. EL00-95-001 and Docket No. ER02-1656-001]

Take notice that on May 21, 2002, the California Independent System Operator Corporation (ISO) tendered for filing in the above-captioned dockets errata to its proposals for a Comprehensive Market Redesign filed on May 1, 2002. The ISO requests that certain elements of the errata filing be made effective on July 1, 2002 and others on October 1, 2002. The ISO states that this filing has been served on the California Public Utilities Commission, all California ISO Scheduling Coordinators, and all parties in Docket No. EL00-95 and ER02-1656.

Comment Date: June 11, 2002.

3. Ameren Services Company

[Docket No. ER02-929-001]

Take notice that on May 22, 2002, Ameren Services Company (Ameren Services), as agent for Central Illinois Public Service Company (d/b/a AmerenCIPS) and Union Electric Company (d/b/a AmerenUE), submitted a revised unexecuted service agreement for Network Integration Transmission Service and a revised unexecuted Network Operating Agreement with Citizens Electric Corporation (CEC), the customer under the proposed agreements. Ameren Services requests an effective date of January 1, 2002 for these agreements.

A copy of the filing was served upon CEC and the affected state commissions.

Comment Date: June 12, 2002.

4. Central Maine Power Company

[Docket No. ER02-1277-001]

Take notice that on May 21, 2002, Central Maine Power Company (Central Maine) filed with the Federal Energy Regulatory Commission (Commission), pursuant to Section 205 of the Federal Power Act, its first-revised version of the executed S.D. Warren Somerset Entitlement Agreement. Central Maine originally submitted this agreement for filing with the Commission on February 19, 2002 and requested confidential treatment for certain material contained in the agreement that the parties considered sensitive business information. On May 6, 2002, the Commission issued a letter order conditionally accepting the agreement, but rejecting Central Maine's request for confidential treatment of certain portions of the contract, as well as requiring compliance with Order No. 614. The Commission ordered Central Maine to file non-confidential versions of the agreement within fifteen days of the issuance of that order. Accordingly, Central Maine Power Company has timely re-filed a non-confidential version of the agreement, which the Commission has designated as FERC Rate Schedule No. 148.

Comment Date: June 11, 2002.

5. Tampa Electric Company

[Docket No. ER02-1858-000]

Take notice that on May 21, 2002, Tampa Electric Company (Tampa Electric) tendered for filing Original Sheet No. 14A for inclusion in its First Revised Rate Schedule FERC No. 16, the agreement for interchange service between Tampa Electric and the Kissimmee Utility Authority (Kissimmee). Tampa Electric states that the material on the tendered sheet was inadvertently left out when the rate schedule was reformatted in accordance with Order No. 614.

Tampa Electric proposes that Original Sheet No. 14A be made effective on August 1, 2001, and therefore requests waiver of the Commission's prior notice requirement. Tampa Electric states that copies of the filing have been served on Kissimmee and the Florida Public Service Commission.

Comment Date: June 11, 2002.

6. Duke Energy Corporation

[Docket No. ER02-1859-000]

Take notice that on May 21, 2002, Duke Energy Corporation filed with the Federal Energy Regulatory Commission (Commission) a notice of cancellation for Service Agreements Nos. 139 and 140 under its FERC Electric Tariff No. 4, effective date July 31, 1999.

This notice of the proposed cancellation has been served on the parties on the Commission's official service list in these proceedings.

Comment Date: June 11, 2002.

7. Tampa Electric Company

[Docket No. ER02-1860-000]

Take notice that on May 21, 2002, Tampa Electric Company (Tampa Electric) tendered for filing with the Federal Energy Regulatory Commission (Commission) service agreements with American Electric Power Service Corporation (AEP) for firm point-to-point transmission service and non-firm point-to-point transmission service under Tampa Electric's open access transmission tariff.

Tampa Electric proposes an effective date of May 21, 2002, for the tendered service agreements, and therefore requests waiver of the Commission's notice requirement. Copies of the filing have been served on AEP and the Florida Public Service Commission.

Comment Date: June 11, 2002.

8. Midwest Independent Transmission System Operator, Inc.

[Docket No. ER02-1861-000]

Take notice that on May 21, 2002, Midwest Independent Transmission System Operator, Inc. (Midwest ISO) submitted to the Federal Energy Regulatory Commission (Commission) pursuant to Section 205 of the Federal Power Act and Section 35.13 of the Commission's regulations, Service Agreements for the transmission service requested by Marshfield Electric & Water Department.

A copy of this filing was sent to Marshfield Electric & Water Department.

Comment Date: June 11, 2002.

9. Midwest Independent Transmission System Operator, Inc.

[Docket No. ER02-1862-000]

Take notice that on May 21, 2002, Midwest Independent Transmission System Operator, Inc. (Midwest ISO) submitted to the Federal Energy Regulatory Commission (Commission) pursuant to Section 205 of the Federal Power Act and Section 35.13 of the Commission's regulations, Service Agreements for the transmission service requested by Independence Light & Power, Telecommunications.

A copy of this filing was sent to Independence Light & Power, Telecommunications.

Comment Date: June 11, 2002.

10. West Texas Utilities Company

[Docket No. ER02-1863-000]

Take notice that on May 21, 2002, West Texas Utilities Company (WTU) submitted for filing a restated and amended Interconnection Agreement between WTU and Taylor Electric Cooperative, Inc. (Taylor) that supersedes, in its entirety, the Interconnection Agreement between WTU and Taylor, dated January 1, 2000. The only changes to the Interconnection Agreement are the addition of a new point of interconnection to be established near Taylor's new Potosi Substation and administrative changes to reflect that WTU is an operating company of the American Electric Power System.

WTU seeks an effective date of June 18, 2002 for the Interconnection Agreement, and, accordingly, seeks waiver of the Commission's notice requirements. WTU served copies of the filing on Taylor and the Public Utility Commission of Texas.

Comment Date: June 11, 2002.

11. Delmarva Power & Light Company

[Docket No. ER02-1864-000]

Take notice that on May 21, 2002, Delmarva Power & Light Company (Delmarva) tendered for filing an Interconnection Agreement between Delmarva and Conectiv Delmarva Generation, Inc. (CDG). The Interconnection Agreement provides for the interconnection of CDG's generating facilities with the Delmarva transmission system.

Delmarva respectfully requests that the Interconnection Agreement become effective on July 21, 2002. Copies of the filing were served upon the Delmarva Public Service Commission, Maryland Public Service Commission and the Virginia State Corporation Commission.

Comment Date: June 11, 2002.

12. Desert Southwest Power, LLC

[Docket No. ER02-1866-000]

Take notice that on May 21, 2002, Desert Southwest Power, LLC submitted a Notice of Succession pursuant to 18 CFR 35.16 and 131.51 of the Federal Energy Regulatory Commission's Regulations. Caithness Energy Marketing, LLC has changed its name to Desert Southwest Power, LLC and effective April 23, 2002 succeeded to Caithness Energy Marketing, LLC Rate Schedule FERC No. 1, Market-Based Rate Schedule filed in Docket No. ER01-2353-000, which was effective July 15, 2001.

Comment Date: June 11, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-13776 Filed 5-31-02; 8:45 am]

BILLING CODE 6717-01-P